DEPARTMENT OF AGRICULTURE

Forest Service

Lake Tahoe Basin Federal Advisory Committee

AGENCY: Forest Service, USDA Forest Service.

ACTION: Notice of Meeting.

SUMMARY: The Lake Tahoe Basin Federal Advisory Committee will hold a meeting December 7, 2000, at Harrah's Lake Tahoe Special Events Center, Highway 50, Stateline, NV 89449. This committee, established by the Secretary of Agriculture June 23, 2000 (65 FR 44519), is chartered to advise the Secretary on implementing the terms of the Federal Interagency Partnership at Lake Tahoe and on other matters raised by the Secretary.

DATE AND TIME: The meeting will be held December 7, 2000, beginning at 10:30 a.m. and ending at 3:30 p.m. Public comment period is scheduled for 2:00 p.m.

ADDRESSES: The meeting will be held at Harrah's Special Events Center, 2nd Floor, Harrah's Lake Tahoe, Highway 50, Stateline, NV 89449.

FOR FURTHER INFORMATION CONTACT: Maribeth Gustafson or Sue Fitzgerald, Lake Tahoe Basin Management Unit, Forest Service, 870 Emerald Bay Road, Suite 1, South Lake Tahoe, CA 96150, (530) 573-2773.

SUPPLEMENTARY INFORMATION: Items to be covered on the agenda include: (1) Agenda Review (2) Review of Advisory Committee Action Items (3) Presentation of Advisory Committee budget recommendations for FY 2002 (4) Workshop on the Lake Tahoe Environmental Improvement Program (EIP), including Advisory Committee recommendations for EIP implementation (5) Review of Workshop Outcomes (6) Public comment. All Lake Tahoe Basin Federal Advisory Committee meetings are open to the public. Interested citizens are encouraged to attend. Issues may be brought to the attention of the committee during the open public comment period at the meeting or by filing written statements with the secretary for committee before or after the meeting. Please refer any written comments to the Lake Tahoe Basin Management Unit at the contact address above.

Late Notice: Owing to last-minute changes to the final agenda for this meeting, this notice is being submitted under the usual 15-day notification period.

Dated: November 21, 2000.
Maribeth Gustafson,
Forest Supervisor.

[FR Doc. 00-30221 Filed 11-27-00; 8:45 am]

BILLING CODE 37110-11-M